COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be provided by nonprofit agencies employing persons who are blind or have other severe disabilities, and deletes products previously furnished by such agencies.

DATES: Comments must be received on or before: 5/15/2016.

ADDRESSES: Committee for Purchase From People Who Are Blind or Severely Disabled, 1401 S. Clark Street, Suite 715, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION:

This notice is published pursuant to 41 U.S.C. 8503 (a)(2) and 41 CFR 51-2.3. Its purpose is to provide interested persons an opportunity to submit comments on the proposed actions.

Addition

If the Committee approves the proposed additions, the entities of the Federal Government identified in this notice will be required to provide the services listed below from the nonprofit agencies employing persons who are blind or have other severe disabilities.

The following services are proposed for addition to the Procurement List for provision by the nonprofit agencies listed:

Services

Service Type: Custodial Service

Mandatory For: U.S. Department of Defense Education Activity Domestic Dependent Elementary and Secondary Schools (DDESS), Fort Bragg Community Schools, Fort Bragg, NC.

Mandatory Source(s) of Supply: Brevard Achievement Center, Rockledge, FL.

Contracting Activity: DDESS Area Center, Procurement Division, Peachtree City, GA.

Service Type: Operations and Maintenance Service.

Mandatory for: US Army Corps of Engineers, Savannah, Defense Forensic Science Center, Fort Gillem, GA.

Mandatory Source(s) of Supply: Pride Industries, Inc., Roseville, CA.

Contracting Activity: US Army Corps of Engineers Savannah District, Savannah, GA.

Deletions

The following products are proposed for deletion from the Procurement List:

Products

NSN(s)—Product Name(s): MR 938—Set, Cleaning, Microfiber, Leaf Print, 5 Piece, MR 951—Set, Cleaning, Microfiber, Cherry Print, 5 Piece.

Mandatory Source(s) of Supply: New York City Industries for the Blind, Inc., Brooklyn, NY. (Deleted)

Contracting Activity: Defense Commissary Agency.

NSN(s)—Product Name(s): MR 417—Latex Gloves, Long Cuff, Medium, 2 Pair, MR 418—Latex Gloves, Long Cuff, Large, 2 Pair.

Mandatory Source(s) of Supply: Alphapointe, Kansas City, MO.

Contracting Activity: Defense Commissary Agency.

Barry S. Lineback,
Director, Business Operations.

[FR Doc. 2016-08739 Filed 4-14-16; 8:45 am]

BILLING CODE 6353-01-P